DEPARTMENT OF COMMERCE

Foreign-Trade Zones Board

[Docket 3-2006]

Foreign-Trade Zone 181—Akron/Canton, Ohio, Application for Expansion

An application has been submitted to the Foreign-Trade Zones Board (the Board) by the Northeast Ohio Trade & Economic Consortium (NEOTEC), grantee of FTZ 181, requesting authority to expand Site 2a in Trumbull County, Ohio within the Cleveland Customs port of entry. The application was submitted pursuant to the provisions of the Foreign-Trade Zones Act (19 U.S.C. 81a-81u), and the regulations of the Board (15 CFR Part 400). It was formally filed on January 31, 2006.

FTZ 181 was approved by the Board on December 23, 1991 (Board Order 546, 57 FR 41; 1/2/92). On March 13, 1998, the grant of authority was reissued to NEOTEC (Board Order 965, 63 FR 13837; 3/23/98). The zone was expanded in 1997 (Board Order 902, 62 FR 36044; 7/3/97), in 1998 (Board Order 968, 63 FR 16962; 4/7/98), in 1999 (Board Order 1053, 64 FR 51291; 9/22/99), in 2002 (Board Order 1260, 67 FR 71933; 12/3/02), and in 2004 (Board Order 1334, 69 FR 30281; 5/27/04). An additional expansion application (Docket 57-2005, filed 11/14/2005) is currently pending with the Board. FTZ 181 currently consists of seven sites in the northeast, Ohio area covering the Counties of Summit, Trumbull, Mahoning, Columbiana, Stark, Ashtabula, and Portage.

The applicant is now requesting authority to expand current Site 2 by adding the 258-acre River Road Industrial Park located at 1265 North River Road, Warren, (Trumbull County), Ohio. The new parcel is owned by Delphi Packard Electric Division, who occupies 139 acres and plans to sell 119 acres for industrial park development.

No specific manufacturing requests are being made at this time. Such requests would be made to the Board on a case-by case basis.

In accordance with the Board's regulations, a member of the FTZ Staff has been designated examiner to investigate the application and report to the Board.

Public comment on the application is invited from interested parties. Submissions (original and 3 copies) shall be addressed to the Board's Executive Secretary at the address below. The closing period for their receipt is April 11, 2006. Rebuttal comments in response to material submitted during the foregoing period may be submitted during the subsequent 15-day period (to April 26, 2006).

A copy of the application and accompanying exhibits will be available for public inspection at each of the following locations:

U.S. Department of Commerce, Export Assistance Center, 600 Superior Avenue, East, Suite 700, Cleveland, Ohio 44114

Office of the Executive Secretary, Foreign-Trade Zones Board, U.S. Department of Commerce, FCB - Suite 4100W, 1099 14th St. NW., Washington, D.C. 20005

Dated: February 3, 2006.
Dennis Puccinelli,
Executive Secretary.

[FR Doc. E6-1886 Filed 2-9-06; 8:45 am]

Billing Code: 3510-DS-S